DEPARTMENT OF LABOR

Mine Safety and Health Administration

Proposed Information Collection; Cleanup Program for Accumulations of Coal and Float Coal Dusts, Loose Coal, and Other Combustibles

AGENCY: Mine Safety and Health Administration, Labor.

ACTION: Request for public comments.

SUMMARY: The Department of Labor, as part of its continuing effort to reduce paperwork and respondent burden, conducts a pre-clearance consultation program to provide the general public and Federal agencies with an opportunity to comment on proposed and continuing collections of information in accordance with the Paperwork Reduction Act of 1995 (PRA). This program helps to assure that requested data can be provided in the desired format, reporting burden (time and financial resources) is minimized, collection instruments are clearly understood, and the impact of collection requirements on respondents can be properly assessed. Currently, the Mine Safety and Health Administration is soliciting comments concerning the proposed information collection for developing and updating a cleanup program for accumulations of coal and float coal dusts, loose coal, and other combustibles in underground coal mines.

DATES: All comments must be postmarked or received by midnight Eastern Standard Time on July 15, 2013.

ADDRESSES: Comments concerning the information collection requirements of this notice must be clearly identified with “OMB 1219-NEW” and sent to the Mine Safety and Health Administration (MSHA) by any of the methods listed below.

• Federal E-Rulemaking Portal: http://www.regulations.gov. Follow the on-line instructions for submitting comments for docket number [MSHA-2013-0017].

• Regular Mail or Hand Delivery: MSHA, Office of Standards, Regulations, and Variances, 1100 Wilson Boulevard, Room 2350, Arlington, VA 22209-3939.

FOR FURTHER INFORMATION CONTACT: Sheila McConnell, Deputy Director, Office of Standards, Regulations, and Variances, MSHA, at mcconnell.sheila.a@dol.gov (email); 202-693-9440 (voice); or 202-693-9441 (facsimile).

SUPPLEMENTARY INFORMATION:

I. Background

A program for regular cleanup and removal of accumulations of coal and float coal dusts, loose coal, and other combustibles is essential to protect miners from explosions. Effective and frequent rock dust application is necessary to protect miners from the potential of a float coal dust explosion or, if one occurs, to reduce its propagation. Rock dust standards were published (35 FR 17097, November 20, 1970) as part of a final rule that implemented requirements contained in the 1969 Federal Coal Mine Health and Safety Act.

Section 75.400-2 requires that mine operators establish and maintain a “program for regular cleanup and removal of accumulations of coal and float coal dusts, loose coal, and other combustibles.” In addition, the cleanup program must be available to the Secretary or authorized representative (AR).

On September 23, 2010, MSHA issued an emergency temporary standard (ETS) on the maintenance of incombustible content of rock dust. The ETS, which became a final rule on June 21, 2011, increased the total incombustible content of combined coal dust, rock dust, and other dust to at least 80 percent in underground areas of bituminous coal mines. To clarify MSHA's standards under the ETS, the Agency issued Program Information Bulletin (PIB) No. P10-18, “Accumulation of Combustible Materials and Rock Dust”, which included information on a mine operator's responsibility to establish and maintain a program for the regular cleanup and removal of accumulations of coal and float coal dusts and other combustibles.

Based on its investigation of the April 5, 2010 explosion at the Upper Big Branch mine (UBB), MSHA issued a report on December 6, 2011, in which the Agency concluded that accumulations of coal and float coal dusts, and loose coal were contributing factors to the explosion. In response to the UBB explosion, MSHA determined that it is necessary to place more emphasis on improved rock dusting in underground coal mines, including improved operators' cleanup programs. A written cleanup program documents how an operator plans to conduct regular cleanup and removal of accumulations of coal and float coal dust, loose coal and other combustibles to better protect miners from the hazard of coal dust explosions.

The standard for mine operators to establish and maintain a cleanup program predates the PRA, and MSHA discovered that it lacked OMB approval. This collection of information provides the required OMB clearance under the PRA.

II. Desired Focus of Comments

The Mine Safety and Health Administration (MSHA) is soliciting comments concerning the proposed information collection related to the Cleanup Program for Accumulations of Coal and Float Coal Dusts, Loose Coal, and Other Combustibles. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Address the use of appropriate automated, electronic, mechanical, or other technological collection techniques or other forms of information technology (e.g., permitting electronic submissions of responses), to minimize the burden of the collection of information on those who are to respond.

OMB clearance requests are available on MSHA's Web site at http://www.msha.gov under “Federal Register Documents” on the right side of the screen by selecting “New and Existing Information Collections and Supporting Statements.” The document will be available on MSHA's Web site for 60 days after the publication date of this notice, and on http://www.regulations.gov. Comments submitted in writing or in electronic form will be made available for public inspection on http://www.regulations.gov. Because comments will not be edited to remove any identifying information, MSHA cautions the commenter against including any information in the submission that should not be publicly disclosed.

The public also may examine publicly available documents at MSHA, Office of Standards, Regulations, and Variances, 1100 Wilson Boulevard, Room 2350, Arlington, VA 22209-3939.

Questions about the information collection requirements may be directed to the person listed in the FOR FURTHER INFORMATION section of this notice.

III. Current Actions

The information obtained from mine operators is used by MSHA during inspections to determine compliance with safety and health standards. MSHA has used 2012 data for the number of respondents and responses, as well as the total burden hours and burden costs supporting this information collection request.

MSHA does not intend to publish the results from this information collection and is not seeking approval to either display or not display the expiration date for the OMB approval of this information collection.

There are no certification exceptions identified with this information collection and the collection of this information does not employ statistical methods.

Summary

Type of Review: New Information Collection.

Agency: Mine Safety and Health Administration.

Title: Cleanup Program for Accumulations of Coal and Float Coal Dusts, Loose Coal, and Other Combustibles.

OMB Number: 1219-NEW.

Affected Public: Business or other for-profit.

Cite/Reference/Form/etc: 30 CFR 75.400-2.

Total Number of Respondents: 375.

Frequency: Various.

Total Number of Responses: 337.

Total Burden Hours: 510 hours.

Total Other Annual Cost Burden: $0.

Comments submitted in response to this notice will be summarized and included in the request for Office of Management and Budget approval of the information collection request; they will also become a matter of public record.

Authority: 44 U.S.C. 3506(c)(2)(A).

Dated: May 8, 2013.
George F. Triebsch,
Certifying Officer.

[FR Doc. 2013-11341 Filed 5-13-13; 8:45 am]

BILLING CODE 4510-43-P